DEPARTMENT OF HOMELAND SECURITY

Federal Emergency Management Agency

[Docket ID: FEMA-2016-0031; OMB No. 1660-0086]

Agency Information Collection Activities: Submission for OMB Review; Comment Request; Write Your Own (WYO) Company Participation Criteria; New Applicant

AGENCY: Federal Emergency Management Agency, DHS.

ACTION: Notice.

SUMMARY: The Federal Emergency Management Agency will submit the information collection abstracted below to the Office of Management and Budget for reinstatement and clearance in accordance with the requirements of the Paperwork Reduction Act of 1995. The reinstatement submission will describe the nature of the information collection, the categories of respondents, the estimated burden (i.e., the time, effort and resources used by respondents to respond) and cost, and the actual data collection instruments FEMA will use.

DATES: Comments must be submitted on or before April 26, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on November 23, 2016 at 81 FR 84605 with a 60 day public comment period. No comments were received. This information collection expired on December 31, 2016. The purpose of this notice is to inform the public that FEMA will submit the information collection abstracted below to the Office of Management and Budget for reinstatement and clearance.

Collection of Information

Title: Write Your Own (WYO) Company Participation Criteria; New Applicant.

Type of Information Collection: Reinstatement, without change, of a previously approved information collection for which approval has expired.

OMB Number: 1660-0086.

FEMA Forms: There is no FEMA form number.

Abstract: Under the NFIP, WYO Program, FEMA may enter into arrangements with individual private sector insurance companies that are licensed to engage in the business of offering NFIP flood insurance coverage. The federal government acts as underwriter of this flood insurance. To ensure that a company seeking to return or participate in the WYO program is qualified, FEMA requires an initial submission of information to determine the company's qualifications, as set forth in 44 CFR 62.24.

Affected Public: Business or other for-profit.

Number of Respondents: 5.

Number of Responses: 5.

Estimated Total Annual Burden Hours: 35.

Estimated Cost: $1727.95.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 17, 2017.
William H. Holzerland,
Senior Director for Information Management, Office of the Chief Administrative Officer, Mission Support, Federal Emergency Management Agency, Department of Homeland Security.

[FR Doc. 2017-05963 Filed 3-24-17; 8:45 am]

BILLING CODE 9111-52-P